ENVIRONMENTAL PROTECTION AGENCY

[FRL-7671-8]

Notice of Proposed Settlement Agreement Under the Comprehensive Environmental Response, Compensation and Liability Act of 1980 (CERCLA) as Amended, 42 U.S.C. 9606(a) and 9622(h), Agromac/Lockwood Superfund Site, Gering, NE, Docket No. CERCLA-07-2003-0302

AGENCY: Environmental Protection Agency.

ACTION: Notice of proposed settlement agreements, Lockwood Corporation and Agromac International, Inc., Agromac/Lockwood Superfund Site, Gering, Nebraska.

SUMMARY: Notice is hereby given that two proposed settlement agreements regarding the Lockwood Corporation and Agromac International, Inc. Superfund Site (Agromac/Lockwood), located in Gering, Nebraska, were signed by the United States Environmental Protection Agency (EPA) on December 17, 2003, and signed by the United States Department of Justice (DOJ) on May 1, 2004. Commenters may request an opportunity for a public meeting in the affected area, in accordance with section 7003(d) of RCRA, 42 U.S.C. 6973(d).

DATES: EPA will receive written comments relating to these proposed settlement agreements until July 9, 2004.

ADDRESSES: Comments should be addressed to E. Jane Kloeckner, Senior Assistant Regional Counsel, United States Environmental Protection Agency, Region VII, 901 N. 5th Street, Kansas City, Kansas 66101 and should refer to: In the Matter of Agromac/Lockwood Superfund Site, Gering, Nebraska, Docket No. CERCLA-07-2003-0302. Comments may also be addressed to the Assistant Attorney General, Environment and Natural Resources Division, P.O. Box 7611, U.S. Department of Justice, Washington, DC 20044-7611, and should refer to In re: Lockwood Corporation, D.J. Ref. 90-11-2-06925.

These proposed settlement agreements may be examined or obtained in person or a copy requested by mail from the office of the United States Environmental Protection Agency, Region VII, 901 N. 5th Street, Kansas City, KS 66101, (913) 551-7235. The Settlement Agreements may be examined at the Office of the United States Attorney, 1620 Dodge Street, Suite 1400, Omaha, NE 68102-1506. A copy may also be obtained by mail from the Consent Decree Library, P.O. Box 7611, U.S. Department of Justice, Washington, DC 20044-7611 or by faxing a request to Tonia Fleetwood, fax No. (202) 514-0097, phone confirmation number (202) 514-1547. In requesting a copy, please enclose a check in the amount of $3.75 for the Bankruptcy Agreement, or $19.50 for the Administrative Order (25 cents per page reproduction cost) payable to the U.S. Treasury.

SUPPLEMENTARY INFORMATION: These proposed settlements are intended to resolve the CERCLA liability of Lockwood Corporation, Debtor (Lockwood), and Agromac International, Inc. (Agromac) for response actions at the Agromac/Lockwood Site. This Site is located on Highway 92 East in Gering, Nebraska, and encompasses approximately 80 acres. It is generally in a commercial/agricultural area; however, a few residential homes are nearby.

Prior to acquisition by Agromac, the entire facility was owned by Lockwood, which manufactured and galvanized irrigation equipment and manufactured potato harvesting machines beginning in the early 1970s. In 1976, Agromac brought the facility and leased the irrigation manufacturing/galvanizing portion of the Block P Parcel to Powerhorse Lockwood Irrigation, Inc. (PLI), a defunct Nebraska corporation. During operations by Lockwood Corporation through 1984, Lockwood disposed of some hazardous wastes in a waste acid evaporation pond. In 1989, Lockwood obtained a RCRA Post Closure Permit from the State of Nebraska and a RCRA Corrective Action Permit from EPA, Region VII, which regulates the post-closure care of the evaporation pond and corrective action for six solid waste management units throughout the Agromac/Lockwood Site.

Agromac and Lockwood have been identified by EPA as eligible for a settlement based on their limited ability to pay for cleanup and reimburse response costs using EPA's Superfund Ability to Pay (ATP) Guidance. The Lockwood agreement is embodied in a Settlement under the United States Bankruptcy Court in Nebraska because Lockwood is under supervision of the US Bankruptcy Trustee due to its petition for liquidation under Chapter 7 of the US Bankruptcy Code. The Settlement Agreement is between the Lockwood Corporation Bankruptcy Trustee, Agromac International Inc., and the United States. The Agreement provides for (i) the hazardous waste management unit to be transferred from Lockwood to Agromac, and (ii) transfer of the remaining funds in the bankruptcy estate, net of $52,000 in reimbursement of monitoring expenditures and fees, to an escrow account for use in cleaning up the property in accordance with the companion Administrative Order on Consent entered into between Agromac and the EPA. In return for the commitments by the Trustee, the United States grants Lockwood a covenant not to sue under sections 106 and 107 of CERCLA, 42 U.S.C. 9606 and 9607, and section 7003 of the Resource Conservation and Recovery Act, 42 U.S.C. 6973, relating to the Agromac/Lockwood Site.

The settlement with Agromac is pursuant to section 107 and 122 of CERCLA. The agreement provides for Agromac to pay $65,000 to EPA and perform the final removal action at the Site. In addition, the Agromac settlement has certain re-openers for changed financial condition if Agromac sells real estate above its book value, in which case 40% of the excess proceeds will be paid to EPA. Agromac agrees to use all funds received in the Bankruptcy distribution from Lockwood to pay for the response actions. If the removal action costs less than Agromac received from the bankruptcy distribution, the remaining proceeds from the distribution will be paid to EPA. In return for the commitments by the Agromac, the United States grants Agromac a covenant not to sue under sections 106 and 107 of CERCLA, 42 U.S.C. 9606 and 9607, relating to the Agromac/Lockwood Site.

Dated: May 24, 2004.
James B. Guilliford,
Regional Administrator, Region VII.

[FR Doc. 04-12928 Filed 6-8-04; 8:45 am]

BILLING CODE 6560-50-M